DEPARTMENT OF THE INTERIOR

Notice of Extension for the Spruce Creek Access Proposal, Final Environmental Impact Statement

SUMMARY: The National Park Service (NPS) is preparing a final environmental impact statement (EIS) to evaluate an application for access to a private inholding on Spruce Creek in the Kantishna Hills of Denali National Park and Preserve. The Notice of Intent to prepare the EIS was published Thursday, March 19, 1998 (Federal Register/Vol. 63, No. 53). The owners of the inholding submitted an application for the right-of-way pursuant to the Alaska National Interest Lands Conservation Act of 1980 (ANILCA), title XI, Section 1110(b) and the implementing regulations at 43 CFR Part 36. The application states that the right-of-way would provide access in the form of a road and airstrip for the owners to construct and operate a remote backcountry lodge. On January 7, 1998, the NPS accepted an application for access to a 20-acre parcel on Spruce Creek. The applicants amended the request for access on January 26, 1998, to request a revised location of an airstrip.

The NPS provided notice on Tuesday, October 6, 1998 (Federal Register/Vol. 63, No. 193) and Monday, February 8, 1999 (Federal Register/Vol. 64, No. 25) stating additional time was needed to complete the draft EIS because the applicants continued to modify and clarify the project proposal. The NPS needed additional time to analyze those modifications and clarifications and extended the dates of publication and distribution of the draft EIS until July 1999. Notices of Availability of the draft EIS were published on August 2 and August 6, 1999 (Federal Register/Vol. 64, No. 147, and Vol. 54, No. 151.) The public comment period ended October 6, 1999. Due to extensive agency and public comment on the draft EIS and the need to conduct an economic feasibility study of the access alternatives, the NPS is giving notice to extend the time period to complete the final EIS beyond the time specified in 43 CFR 36.6.

DATES: The final EIS will be available on or about May 26, 2000.

FOR FURTHER INFORMATION CONTACT: Stephen P. Martin, Superintendent, Denali National Park and Preserve, P.O. Box 9, Denali Park, Alaska 99755. Telephone (907) 683-2294.

Judith C. Gottlieb,
Acting Regional Director.

[FR Doc. 00-5430 Filed 3-6-00; 8:45 am]

BILLING CODE 4310-70-M